DEPARTMENT OF COMMERCE

National Oceanic and Atmospheric Administration

[I.D. 090205B]

Large Coastal Shark 2005/2006 Stock Assessment Data Workshop; Correction

AGENCY: National Marine Fisheries Service (NMFS), National Oceanic and Atmospheric Administration (NOAA), Commerce.

ACTION: Notification of workshop; correction.

SUMMARY: This document corrects a September 15, 2005, Federal Register notice that announced NMFS' large coastal shark (LCS) stock assessment Data workshop. That notice provided an incorrect address for the location of the workshop. This document provides the correct address. The date and time of the workshop remain unchanged.

DATES: The Data workshop will start at 1 p.m. on Monday, October 31, 2005, and will conclude at 1 p.m. on Friday, November 4, 2005.

ADDRESSES: The correct address for the Data workshop is the Bay Point Marriott Resort, 4200 Marriott Drive, Panama City Beach, FL 32408.

FOR FURTHER INFORMATION CONTACT: Julie Neer at (850) 234-6541; or Karyl Brewster-Geisz at (301) 713-2347, fax (301) 713-1917.

SUPPLEMENTARY INFORMATION:

Background

NMFS announced the Data workshop, the first of three workshops for the LCS 2005/2006 stock assessment, in a Federal Register notice on September 15, 2005 (70 FR 54537). The Data workshop will be held from October 31 - November 4, 2005, and will be conducted in a manner similar to the Southeast Data, Assessment, and Review (SEDAR) process. Further details regarding these workshops are provided in the September 15, 2005, notice and are not repeated here.

Need for Correction

In the original Federal Register notice, the address for the Data workshop contains an error and is in need of correction.

Correction

Accordingly, the September 15, 2005 (70 FR 54537) Federal Register notice concerning NMFS' LCS 2005/2006 stock assessment Data workshop that is the subject of FR Doc. 05-18355, is corrected as follows:

On page 54537, column 3, in the ADDRESSES section, line 3, the language “4200 Marriott Drive, Bay Point, FL” is corrected to read “4200 Marriott Drive, Panama City Beach, FL”.

Dated: September 29, 2005.
Alan D. Risenhoover,
Acting Director, Office of Sustainable Fisheries, National Marine Fisheries Service.

[FR Doc. 05-20018 Filed 10-4-05; 8:45 am]

BILLING CODE 3510-22-S